DEPARTMENT OF ENERGY

Federal Energy Regulatory Commission

Combined Notice of Filings #1

Take notice that the Commission received the following electric rate filings:

Docket Numbers: ER10-1257-006; ER10-1258-006; ER11-3117-002.

Applicants: Wabash Valley Power Association, Inc., Wabash Valley Energy Marketing, Inc., Lively Grove Energy Partners, LLC.

Description: Notice of Change of Status of Wabash Valley Power Association, et al.

Filed Date: 7/18/16.

Accession Number: 20160718-5219.

Comments Due: 5 p.m. ET 8/8/16.

Docket Numbers: ER10-2575-008.

Applicants: Watson Cogeneration Company.

Description: Updated Market Power Analysis of Watson Cogeneration Company.

Filed Date: 7/18/16.

Accession Number: 20160718-5197.

Comments Due: 5 p.m. ET 9/16/16.

Docket Numbers: ER16-328-002; ER12-952-003; ER13-1141-002; ER13-1142-002; ER13-1143-003; ER13-1144-003; ER11-4027-007; ER10-2196-002; ER11-4028-007; ER12-1275-002; ER16-918-001; ER15-1657-003.

Applicants: Cogentrix Virginia Financing Holding Company, LLC, Essential Power, LLC, Essential Power Massachusetts, LLC, Essential Power Newington, LLC, Essential Power OPP, LLC, Essential Power Rock Springs, LLC, James River Genco, LLC, Lakewood Cogeneration, L.P., Portsmouth Genco, LLC, Red Oak Power, LLC, Rhode Island State Energy Center, LP, SEPG Energy Marketing Services, LLC.

Description: Notice of Non-Material Change in Status of Cogentrix Virginia Financing Holding Company, LLC, et al.

Filed Date: 7/18/16.

Accession Number: 20160718-5201.

Comments Due: 5 p.m. ET 8/8/16.

Docket Numbers: ER16-1483-001.

Applicants: California Independent System Operator Corporation.

Description: Tariff Amendment: 2016-07-18 Frequency Response Deficiency Letter Response to be effective 8/15/2016.

Filed Date: 7/18/16.

Accession Number: 20160718-5169.

Comments Due: 5 p.m. ET 8/8/16.

Docket Numbers: ER16-1791-001.

Applicants: PJM Interconnection, L.L.C.

Description: Tariff Amendment: Amendment to 5/26/16 Filing of Revisions to MISO/PJM JOA re CMP-ICP Baseline to be effective 7/25/2016.

Filed Date: 7/19/16.

Accession Number: 20160719-5029.

Comments Due: 5 p.m. ET 8/9/16.

Docket Numbers: ER16-2229-000.

Applicants: NorthWestern Corporation.

Description: § 205(d) Rate Filing: SA 642 3rd Rev—NITSA with General Mills Operations, LLC to be effective 9/1/2016.

Filed Date: 7/18/16.

Accession Number: 20160718-5160.

Comments Due: 5 p.m. ET 8/8/16.

Docket Numbers: ER16-2230-000.

Applicants: PJM Interconnection, L.L.C.

Description: § 205(d) Rate Filing: Amendment to ISA No. 3388 and ICSA No. 3409 Queue Position #T107, X3-004 & Y2-01 to be effective 11/20/2012.

Filed Date: 7/19/16.

Accession Number: 20160719-5023.

Comments Due: 5 p.m. ET 8/9/16.

Docket Numbers: ER16-2231-000.

Applicants: NorthWestern Corporation.

Description: § 205(d) Rate Filing: Revisions to Market-Based Rate Tariff to be effective 9/18/2016.

Filed Date: 7/19/16.

Accession Number: 20160719-5024.

Comments Due: 5 p.m. ET 8/9/16.

Docket Numbers: ER16-2232-000.

Applicants: Public Service Company of Colorado.

Description: § 205(d) Rate Filing: 20160719_Production Wind Credit to be effective 9/16/2016.

Filed Date: 7/19/16.

Accession Number: 20160719-5027.

Comments Due: 5 p.m. ET 8/9/16.

Docket Numbers: ER16-2233-000.

Applicants: Arizona Public Service Company.

Description: Tariff Cancellation: Partial Cancellation of Rate Schedule No. 32, Service Schedule E to be effective 9/18/2016.

Filed Date: 7/19/16.

Accession Number: 20160719-5051.

Comments Due: 5 p.m. ET 8/9/16.

Docket Numbers: ER16-2234-000.

Applicants: EF Kenilworth LLC.

Description: Baseline eTariff Filing: Application for Market Based Rate to be effective 7/20/2016.

Filed Date: 7/19/16.

Accession Number: 20160719-5055.

Comments Due: 5 p.m. ET 8/9/16.

Docket Numbers: ER16-2235-000.

Applicants: Midcontinent Independent System Operator, Inc.

Description: § 205(d) Rate Filing: 2016-07-19_SA 2930 ITCTransmission-Sugar Creek Solar GIA (J419) to be effective 7/20/2016.

Filed Date: 7/19/16.

Accession Number: 20160719-5078.

Comments Due: 5 p.m. ET 8/9/16.

Docket Numbers: ER16-2236-000.

Applicants: Wolverine Power Supply Cooperative, Inc.

Description: § 205(d) Rate Filing: FERC Rate Schedule No. 24, Van Tyle IFA, 1.0.0 to be effective 5/5/2016.

Filed Date: 7/19/16.

Accession Number: 20160719-5095.

Comments Due: 5 p.m. ET 8/9/16.

Docket Numbers: ER16-2237-000.

Applicants: Wabash Valley Power Association, Inc.

Description: § 205(d) Rate Filing: Amendments to Rate Schedules to be effective 9/19/2016.

Filed Date: 7/19/16.

Accession Number: 20160719-5103.

Comments Due: 5 p.m. ET 8/9/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 19, 2016.
Nathaniel J. Davis, Sr.,
Deputy Secretary.

[FR Doc. 2016-17527 Filed 7-25-16; 8:45 am]

BILLING CODE 6717-01-P